DEPARTMENT OF TRANSPORTATION

Federal Highway Administration

Intelligent Transportation Society of America; Public Meeting

AGENCY: Federal Highway Administration (FHWA), DOT.

ACTION: Notice of public meeting.

SUMMARY: The Intelligent Transportation Society of America (ITS AMERICA) will hold a meeting of its Board of Directors on Thursday, January 11, 2001. The meeting begins at 2:00 p.m. and ends at 6 p.m. The letter designations that follow each item mean the following: (I) is an information item; (A) is an action item; (D) is a discussion item. The General Session includes the following items: (1) Introductions and ITS America Antitrust Policy and Conflict of Interest Statements (I); (2) Review & and Approval of August 6, 2000 Board Meeting #35 Minutes and November 5, 2000 #36 Minutes (A); (3) Federal ITS Initiatives Report (I/D); (4) Coordinating Council Report (I/D/A); (5) State Chapters Council Report (I/D); (6) International Affairs Council & World Congresses Reports (I/D); (7) ITS America Trade Association Report (I); (8) Interim President's Report (External Issues) (I/D); (9) Other Business;

Business Session

(US DOT participants excused; Board Members, ITS America Members and Staff Only.) (10) Report to the Executive Committee (I/D); (11) Report of the Nominating Committee (I); (12) Report of the Finance Committee and Approval of 2001 Budget (I/D/A); (13) Interim President's Report (Internal Issues)(I/D); (14) Other Business and Schedule for Meetings This Year.

ITS AMERICA provides a forum for national discussion and recommendations on ITS activities including programs, research needs, strategic planning, standards, international liaison, and priorities.

The charter for the utilization of ITS AMERICA establishes this organization as an advisory committee under the Federal Advisory Committee Act (FACA) 5 USC app. 2, when it provides advice or recommendations to DOT officials on ITS policies and programs. (56 FR 9400, March 6, 1991).

DATES: The Board of Directors of ITS AMERICA will meet on Thursday, January 11, 2001, from 2 p.m.-6 p.m. Room TBA.

ADDRESSES: Marriott Wardman Park Hotel, 2660 Woodley Road, NW, Washington, DC 20008, Phone: 202-328-2000 Fax: 202-234-0015.

FOR FURTHER INFORMATION CONTACT: Materials associated with this meeting may be examined at the offices of ITS AMERICA, 400 Virginia Avenue SW, Suite 800, Washington, D.C. 20024. Persons needing further information or who request to speak at this meeting should contact Debbie M. Busch at ITS AMERICA by telephone at (202) 484-2904 or by FAX at (202) 484-3483. The DOT contact is Kristy Frizzell, FHWA, HOIT, Washington, D.C. 20590, (202) 366-9536. Office hours are from 8:30 a.m. to 5 p.m., e.t., Monday through Friday, except for legal holidays.

(23 U.S.C. 315; 49 CFR 1.48)
Issued on: December 7, 2000.
Jeffrey Paniati,
Program Manager, ITS Joint Program Office.

[FR Doc. 00-31637 Filed 12-11-00; 8:45 am]

BILLING CODE 4910-22-P